DEPARTMENT OF COMMERCE

National Oceanic and Atmospheric Administration

[I.D. 050806A]

New England Fishery Management Council; Northeast Multispecies; Small-mesh Multispecies; Scoping Process

AGENCY: National Marine Fisheries Service (NMFS), National Oceanic and Atmospheric Administration (NOAA), Commerce

ACTION: Notice of intent to prepare a supplemental environmental impact statement (SEIS) and notice of scoping meetings; request for comments.

SUMMARY: The New England Fishery Management Council (Council) announces its intent to prepare, in cooperation with NMFS, an SEIS to assess the potential effects on the human environment of alternative measures for managing the small-mesh multispecies fishery pursuant to the Magnuson-Stevens Fishery Conservation and Management Act. This notice announces a public process for determining the scope of issues to be addressed and for identifying the significant issues relating to management of the small-mesh multispecies fishery. The Council will use the scoping process and the SEIS to develop Amendment 14 to the Northeast (NE) Multispecies Fishery Management Plan (FMP) for Small-Mesh Multispecies.

DATES: The Council will discuss and take scoping comments at public meetings in May and June 2006. For specific dates and times of the scoping meetings, see SUPPLEMENTARY INFORMATION. Written scoping comments must be received on or before 5 p.m., local time, June 16, 2006.

ADDRESSES: The Council will take scoping comments at public meetings in Massachusetts, Maine, Rhode Island, Connecticut, New York, and New Jersey. For specific locations, see SUPPLEMENTARY INFORMATION. Written comments and requests for copies of the scoping document and other information should be directed to Paul J. Howard, Executive Director, New England Fishery Management Council, 50 Water Street, Mill 2, Newburyport, MA 01950, telephone (978) 465-0492. Comments may also be sent via facsimile (fax) to (978) 465-3116 or via e-mail to MULA14-NOI@noaa.gov. Include in the subject line the following identifier: “MUL Amendment 14 Scoping Comments.” The scoping document is accessible electronically via the Internet at http://www.nefmc.org.

FOR FURTHER INFORMATION CONTACT: Paul J. Howard, Executive Director, New England Fishery Management Council, (978) 465-0492.

SUPPLEMENTARY INFORMATION:

Background

The small-mesh multispecies fishery includes silver hake (Merluccius bilinearis, also known as whiting), offshore hake (Merluccius albidus, also know as blackeye whiting) and red hake (Urophycis chuss, also known as ling and mud hake) and is managed under the Council's NE Multispecies FMP. Silver hake is a widely distributed, slender, swiftly swimming species whose range extends from Newfoundland to South Carolina. Offshore hake, often referred to as another species of silver hake, co-occur with silver hake over the continental shelf and slope of the northwest Atlantic Ocean and are often indistinguishable from silver hake in commercial landings. Red hake are distributed from the Gulf of St. Lawrence to North Carolina but are most abundant between Georges Bank and New Jersey. The Council has managed these species as a unit under the NE Multispecies FMP since 1999. Currently, the small-mesh multispecies fishery is an open access fishery. Management measures for these species include retention limits based on net mesh size, seasonal fishing areas, and requirements for fishing gear to ensure escapement of other groundfish species.

Purpose of Action

An amendment and SEIS to the NE Multispecies FMP to address the small-mesh multispecies fishery is being considered due to concerns that the small mesh multispecies fishery may be, or may become, overcapitalized as a result of shifts in the distribution of fishing effort that followed recent changes to the management measures of other New England fisheries. While overfishing currently is not occurring on stocks of silver hake and red hake, the threat of overfishing exists as long as an unlimited number of vessels may enter the fishery and increase landings beyond sustainable levels.

In January 2006, a stock assessment was completed for silver hake. This assessment indicates that the abundance index for the northern stock of silver hake has declined since 1999 due to low recruitment and the abundance index for the southern stock of silver hake remains below the target level. In the most recent Stock Assessment and Fishery Evaluation report published in 2003, the members of the Council's Whiting Monitoring Committee indicated concerns about declining survey mean weights for both red and offshore hake in portions of their stock areas.

Measures Under Consideration

The Council may consider several types of management measures to improve the effectiveness of small-mesh multispecies management including, but not limited to:

• Limited entry for commercial vessels;

• Hard total allowable catch (TAC) output controls;

• Dedicated Access Privileges (DAPs); and

• Recreational measures for the these species.

Further information regarding each issue follows. Detailed information on each of these potential measures, including specific topics for which the Council is soliciting comment, are in the scoping document, available on the Council web site http://www.nefmc.org.

Limited Entry for Commercial Vessels

The Council voted to reaffirm the existing small-mesh multispecies control date of March 25, 2003, during their meeting on April 4, 2006. The purpose of this control date was to deter speculative entry into the fishery after its establishment. The Council is not obliged to limit entry into the commercial small-mesh fisheries, nor is it obliged to use participation before the control date as the basis for qualification. Qualification criteria may include such things as participation in the fishery prior to the control date, participation within a defined time period, historical landing levels by fishery participants, and dependency on the fishery.

Hard Total Allowable Catches

Hard TACs are an output control measure that limit total harvest by closing the fishery when the TAC is reached. As such, TACs may be considered to reduce the likelihood that overfishing may occur in the fishery. Hard TACs may be developed for individual species, species assemblages, areas, seasons, commercial or recreational fisheries. Hard TACs may be developed in conjunction with individual harvesting privileges and could be developed wether the fishery becomes limited entry or remains open access.

Dedicated Access Privileges

DAP programs may include such measures as fishing sector allocations, community quotas, harvesting cooperatives, or other group or individual access privileges. DAPs may provide for a management approach that can be tailored to a smaller number of vessels instead of developing an approach to accommodate several hundred vessels. DAPs may allow additional flexibility for participants to pool resources and maximize efficiency and economic benefits. If developed, the Council may consider safeguards to consolidation, transferability, allocation changes over time, and how DAPs may change the fishery and fishing communities.

It is possible that during the scoping process other issues will be raised related to the purpose of this amendment, and if appropriate, those issues also will be considered by the Council.

Scoping Process

It is the Council's and NMFS' intent to encourage all persons affected by or otherwise interested in the management of small-mesh multispecies to participate in the process to determine the scope and significance of issues to be analyzed in the SEIS and amendment. All such persons are encouraged to submit written comments (see ADDRESSES) or attend one of the scoping meetings. Persons submitting written comments may wish to address the specific measures introduced in the previous section. The scope of the SEIS consists of the range of actions, alternatives, and impacts to be considered. Alternatives may include the following: Not amending the FMP (taking no action); developing an amendment that contains management measures such as those discussed in this notice; or other reasonable courses of action. Impacts may be direct, indirect, or cumulative.

This scoping process also will identify and eliminate from detailed analysis issues that are not significant. After the scoping process is completed, the Council will proceed with the development of an amendment to the NE Multispecies FMP and the Council will prepare an SEIS to analyze the impacts of the range of alternatives considered in the amendment. The Council will hold public hearings to receive comments on the draft amendment and on the analysis of its impacts presented in the draft SEIS.

Scoping Hearing Schedule

The Council will discuss and take scoping comments at the following public meetings:

1. Wednesday, May 24, 5 p.m., MA DMF of Marine Fisheries, Annisquam River Marine Station, 30 Emerson Avenue, Gloucester, MA 01930. Telephone (978) 282-0308.

2. Thursday, May 25, 5 p.m., Casco Bay Lines, 56 Commercial Street, Portland, ME 04101. Telephone (207) 774-7871.

3. Wednesday, May 31, 5 p.m., Narragansett Town Hall, 25 Fifth Avenue, Narragansett, RI 02882. Telephone (401) 789-1044.

4. Tuesday, June 6, 5 p.m., Stonington Office of Public Safety, 173 South Broad Street, Route 1, Stonington, CT 06378. Telephone (860) 599-7510.

5. Wednesday, June 7, 5 p.m., Riverhead Town Hall, 200 Howell Avenue, Riverhead, NY 11901. Telephone (631) 727-3200.

6. Thursday, June 8, 5 p.m., Ferrara's Restaurant, 518 Arnold Avenue, Point Pleasant Beach, NJ 08742. Telephone (732) 899-3900.

Special Accommodations

These meetings are accessible to people with physical disabilities. Requests for sign language interpretation or other auxiliary aids should be directed to Paul J. Howard (see ADDRESSES) at least 5 days prior to the meeting date.

Authority: 16 U.S.C. 1801 et seq.

Dated: May 08, 2006.
Alan D. Risenhoover,
Acting Director, Office of Sustainable Fisheries, National Marine Fisheries Service.

[FR Doc. E6-7362 Filed 5-12-06; 8:45 am]

BILLING CODE 3510-22-S